FEDERAL COMMUNICATIONS COMMISSION

47 CFR Part 64

[CG Docket No. 03-123; FCC 03-112]

Telecommunication Relay Services and Speech-to-Speech Services for Individuals With Hearing and Speech Disabilities

AGENCY: Federal Communications Commission.

ACTION: Proposed rule.

SUMMARY: This document seeks comment on technological advancements that may further the statutory goal of functionally equivalent Telecommunications Relay Services (TRS) for persons with hearing and speech disabilities, including comment on whether TRS facilities should have the same National Security Emergency Preparedness (NS/EP) designation as local exchange carriers under the Telecommunications Service Priority (TSP) System to ensure that persons with hearing and speech disabilities have access to telecommunications services during time of local, national, or international crisis.

DATES: Comments are due on or before September 24, 2003 and reply comments are due on or before October 9, 2003. Written comments by the public on the proposed information collection are due September 24, 2003. Written comments must be submitted by the Office of Management and Budget (OMB) on the proposed information collection on or before October 24, 2003.

ADDRESSES: Federal Communications Commission, 445 12th Street, SW., Washington, DC 20054. In addition to filing comments with the Secretary, a copy of any comment on the information collection contained herein should be submitted to Leslie Smith, Federal Communications Commission, Room 1-A804, 445 12th Street, SW., Washington, DC 20554, or via the Internet to Leslie.Smith@fcc.gov, and to Kim A. Johnson, OMB Desk Officer, Room 10236 NEOB, 725 17th Street, NW., Washington, DC 20503 or via the Internet to Kim_A._Johnson@omb.eop.gov.

FOR FURTHER INFORMATION CONTACT: Cheryl King, of the Consumer & Government Affairs Bureau at (202) 418-2284 (voice), (202) 418-0416 (TTY) or e-mail Cheryl.King@fcc.gov. For additional information concerning the information collection contained in this document, contact Leslie Smith at (202) 418-0217 or via the Internet at Leslie.Smith@fcc.gov.

SUPPLEMENTARY INFORMATION: This Notice of Proposed Rulemaking (NPRM), Telecommunications Relay Services and Speech-to-Speech Services for Individuals with Hearing and Speech Disabilities, CG Docket No. 03-123, FCC 03-112, contains proposed information collection(s) subject to the Paperwork Reduction Act of 1995 (PRA). It will be submitted to the OMB for review under the Paperwork Reduction Act (PRA). OMB, the general public, and other Federal agencies are invited to comment on the proposed information collection(s) contained in this proceeding. This is a summary of the Commission's NPRM, adopted May 15, 2003, and released June 17, 2003. Comments may be filed using the Commission's Electronic Comment Filing System (ECFS) or by filing paper copies. See Electronic Filing of Documents in Rulemaking Proceedings, 63 FR 24121, May 1, 1998. Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply. Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Services mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission, 445 12th Street, SW., Room TW-B204, Washington, DC 20554. Parties who choose to file by paper should also submit their comments on diskette. These diskettes should be submitted to: Dana Jackson, Federal Communications Commission, 445 12th Street, SW., Room 6-C410, Washington, DC 20554. Such a submission should be on a 3.5 inch diskette formatted in an IBM compatible format using Word 97 or compatible software. The diskette should be accompanied by a cover letter and should be submitted in “read only” mode. The diskette should be clearly labeled with the commenter's name, proceeding (including the lead docket number in this case, CG Docket No. 03-123, type of pleading (comment or reply comment), date of submission, and the name of the electronic file on the diskette. The label should also include the following phrase “Disk Copy—Not an Original.” Each diskette should contain only one party's pleadings, preferably in a single electronic file. In addition, commenters must send diskette copies to the Commission's copy contractor, Qualex International, Portals II, 445 12th Street, SW., Room CY-B402, Washington, DC 20554. Copies of any subsequently filed documents in this matter will be available for public inspection and copying during regular business hours at the FCC Reference Information Center, Portals II, 445 12th Street, SW., Room CY-A257, Washington, DC 20554. The complete text of this NPRM may be purchased from the Commission's duplication contractor, Qualex International, Portals II, 445 12th Street, SW., Room CY-B402, Washington, DC 20554. To request materials in accessible formats for people with disabilities (braille, large print, electronic files, audio format), send an e-mail to fcc504@fcc.gov or call the Consumer & Governmental Affairs Bureau at (202) 418-0531 (voice), (202) 418-7365 (TTY). This NPRM can also be downloaded in Text and ASCII formats at: http://www.fcc.gov/cgb/dro.

Paperwork Reduction Act

This NPRM contains a proposed information collection. The Commission, as part of its continuing effort to reduce paperwork burdens, invited the general public and OMB to comment on the information collection(s) contained in this NPRM, as required by the Paperwork Reduction Act of 1995, Public Law 104-13. Public and agency comments are due at the same time as other comments on this NPRM; OMB notification of action is due 60 days from date of publication of this NPRM in the Federal Register. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology.

OMB Control Number: 3060-xxxx.

Title: Telecommunications Relay Services and Speech-to-Speech Services for Individuals with Hearing and Speech Disabilities, CG Docket No. 03-123 (NPRM), FCC 03-112.

Form Number: N/A.

Type of Review: New Collection.

Respondents: Business or other for-profit entities.

Number of Respondents: 5,053.

Estimated Time per Response: 5.311 hours (average).

Frequency of Responses: Recordkeeping; Annual Reporting requirement; Third Party disclosure.

Total Annual Burden: 26,837 hours.

Total Annual Cost: None.

Needs and Uses: On June 17, 2003, the FCC released a Notice of Proposed Rulemaking (NPRM), which proposed rules in § 64.604(c)(5)(iii)(F) regarding certification for TRS providers to be eligible to receive payments from the Interstate TRS Fund. The Commission also proposed to revise § 64.605 of the Commission's rules. On June 17, 2003, the Commission also released a Second Report and Order, Order on Reconsideration and is seeking OMB approval for the new collection on the final rule § 64.604(a)(3) and (c)(2) in that Second Report and Order. See Telecommunication Relay Services and Speech-to-Speech for Individuals with Hearing and Speech Disabilities, CC Docket No. 98-67, (Report and Order), FCC 03-112.

Synopsis

In this NPRM, the Commission seeks comment on whether TRS and TRS facilities should receive a National Security and Emergency Preparedness (NS/EP) Priority Status commensurate with that given to local exchange carrier (LEC) facilities. The Commission also requests comment on TRS mandatory minimum standards regarding confidentiality requirements and encryption for IP Relay TRS calls. The Commission seeks comment on whether TRS should employ a non-shared language translation service, and on amending its call set-up rules for various types of TRS calls. The NPRM also seeks comment on technological advances that may improve the functional equivalency of TRS, and on outreach efforts that may benefit TRS consumers. Finally, the NPRM seeks comment on whether the Commission should institute a certification process for providers of IP Relay, VRS, and any other technology that does not fit into the statutorily-mandated jurisdictional separation of intrastate and interstate. The intent of these proposed rules is to improve TRS services and the Commission's oversight of certified state TRS programs.

Initial Regulatory Flexibility Analysis (IRFA)

As required by the Regulatory Flexibility Act (RFA), 5 U.S.C. 603 et seq, the Commission has prepared this Initial Regulatory Flexibility Analysis (IRFA) of the possible significant economic impact on small entities by the policies and rules proposed in this NPRM. See 5 U.S.C. 603. We expect that we could certify this action under 5 U.S.C. 605, because it appears that only one TRS provider is likely a small entity (because it is a non-profit organization). Therefore, there is not a substantial number of small entities that may be affected by our action. Written public comments are requested on this IRFA. Comments must be identified as responses to the IRFA and must be filed by the deadlines for comments on the NPRM. The Commission will send a copy of the NPRM, including this IRFA, to the Chief Counsel for Advocacy of the Small Business Administration. See 5 U.S.C. 603(a). In addition, the NPRM and IRFA (or summaries thereof) will be published in the Federal Register.

Need for, and Objectives of, the Proposed Rules

The Commission is issuing this NPRM to seek comment on technological advances that could improve TRS. In doing so, the Commission intends to improve TRS users consistent with Congress' direction ensure that the Commission's regulations encourage the use of existing technology and not discourage or impair the development of improved technology. 47 U.S.C. 225(d)(2). The Commission also seeks public comment on whether its rules should be modified to provide a federal certification process for providers of IP Relay and VRS.

Legal Basis

The authority for actions proposed in this NPRM may be found in sections 1, 4(i) and (j), 201-205, 218 and 225 of the Communications Act of 1934, as amended, 47 U.S.C. 151, 154 (i), 154(j), 201-205, 218 and 225.

Description and Estimate of the Number of Small Entities to Which the Proposed Rule Will Apply

The RFA directs agencies to provide a description of and, where feasible, an estimate of the number of small entities that may be affected by rules adopted herein. 5 U.S.C. 604(a)(3). The RFA defines the term “small entity” as having the same meaning as the terms “small business,” “small organization,” and “small governmental jurisdiction.” 5 U.S.C. 601(6). In addition, the term “small business” has the same meaning as the term “small business concern” under the Small Business Act. 5 U.S.C. 601(3) (incorporating by reference the definition of “small business concern” in 15 U.S.C. 632). Pursuant to the 5 U.S.C. 601(3), the statutory definition of small business applies “unless an agency, after consultation with the Office of Advocacy of the Small Business Administration and after opportunity for public comment, establishes one or more definitions of such term which are appropriate to the activities of the agency and publishes such definition(s) in the Federal Register.” A small business concern is one which: (1) Is independently owned and operated; (2) is not dominant in its field of operation; and (3) satisfies any additional criteria established by the Small Business Administration (SBA). 15 U.S.C. 632. A small organization is generally “any not-for-profit enterprise which is independently owned and operated and is not dominant in its field. 5 U.S.C. 601(4). Nationwide, as of 1992, there were approximately 275,801 small organizations. 1992 Economic Census, U.S. Bureau of the Census, Table 6 (special tabulation of data under contract to Office of Advocacy of the U.S. Small Business Administration). The term “small governmental jurisdiction” is defined as “governments of cities, counties, towns, townships, villages, school districts, or special districts, with a population of less than fifty thousand. 5 U.S.C. 601(5). As of 1997, there were approximately 87,453 governmental jurisdictions in the United States. U.S. Census Bureau, Statistical Abstracts of the United States: 2000, Section 9, pages 299-300, Tables 490 and 492. This number includes 39,044 county governments, municipalities, and townships, of which 37,546 (approximately 96.2%) have populations of fewer than 50,000, and 1,498 have populations of 50,000 or more. Thus, we estimate the number of small governmental jurisdiction overall to be 84,098 or fewer.

Below, we further describe and estimate the number of small entity licensees and regulates that, in theory, may be affected by these rules. For some categories, the most reliable source of information available at this time is data the Commission publishes in its Trends in Telephone Service Report. FCC, Wireline Competition Bureau, Industry Analysis and Technology Division, “Trends in Telephone Service” at Table 5.3, Page 5-5 (May 2002) (Trends in Telephone Service). FCC Web site location (see online page 24): http://www.fcc.gov/Bureaus/CommonCarrier/Reports/FCC-StateLink/IAD/trends502.pdf.

Local Exchange Carriers. We have included small incumbent LECs in this present RFA analysis. As noted above, a “small business” under the RFA is one that, inter alia, meets the pertinent small business size standard (e.g., a telephone communications business having 1,500 or fewer employees), and “is not dominant in its field of operation.” 15 U.S.C. 632. The SBA's Office of Advocacy contends that, for RFA purposes, small incumbent LECs are not dominant in their field of operation because any such dominance is not “national” in scope. Letter from Jere W. Glover, Chief Counsel for Advocacy, SBA to William E. Kennard, Chairman, FCC (May 27, 1999). The Small Business Act contains a definition of “small business concern,” which the RFA incorporates into its own definition of “small business.” See 15 U.S.C 632 (a) (Small Business Act); 5 U.S.C. 601 (3) (RFA). SBA regulations interpret “small business concern” to include the concept of dominance of a national basis. 13 CFR 121.102 (b). We have therefore included small incumbent LECs in the RFA analysis, although we emphasize that this RFA action has no effect on FCC analyses and determinations in other, non-RFA contexts. NAICS code 513310.

Incumbent Local Exchange Carriers. Neither the Commission nor the SBA has developed a small business size standard specifically directed toward providers of incumbent local exchange service. The closest applicable size standard under the SBA rules is for Wired Telecommunications Carriers. 13 CFR 121.201, NAICS Code 517110. This provides that such a carrier is small entity if it employs no more than 1,500 employees. Id. Commission data from 2000 indicate that there are 1,329 incumbent local exchange carriers, total, with approximately 1,024 having 1,500 or fewer employees. Trends in Telephone Service at Table 5.3. The small carrier number is an estimate and might include some carriers that are not independently owned and operated; we are therefore unable at this time to estimate with greater precision the number of these carriers that would qualify as small businesses under SBA's size standard. Consequently, we estimate that there are no more than 1,024 ILECS that are small businesses possibly affected by our action.

Interexchange Carriers. Neither the Commission nor the SBA has developed a small business size standard specifically directed toward providers of interexchange service. The closest applicable size standard under the SBA rules is for Wired Telecommunications Carriers. 13 CFR 121.201, NAICS Code 517110. This provides that such a carrier is small entity if it employs no more than 1,500 employees. Commission data from 2000 indicate that there are 229 interexchange carriers, total, with approximately 181 having 1,500 or fewer employees. Trends in Telephone Service at Table 5.3. The small carrier number is an estimate and might include some carriers that are not independently owned and operated; we are therefore unable at this time to estimate with greater precision the number of these carriers that would qualify as small businesses under SBA's size standard. Consequently, we estimate that there are no more that 181 interexchange carriers that are small businesses possibly affected by our action.

TRS Providers. Neither the Commission nor the SBA has developed a definition of “small entity” specifically directed toward providers of telecommunications relay services (TRS). Again, the closest applicable size standard under the SBA rules is for Wired Telecommunications Carriers. 13 CFR 121.201, NAICS Code 517110. Currently, there are 10 interstate TRS providers, which consist of interexchange carriers, local exchange carriers, state-managed entities, and non-profit organizations. Approximately five or fewer of these entities are small businesses. See National Association for State Relay Administration (NASRA) Statistics. These numbers are estimates because of recent and pending mergers and partnerships in the telecommunications industry. The FCC notes that these providers include several large interexchange carriers and incumbent local exchange carriers. Some of these large carriers may only provide TRS service in a small area but they nevertheless are not small business entities. MCI WorldCom, for example, provides TRS in approximately only a few states but is not a small business. The FCC estimates that there is at least one TRS provider that is a small entity that may be affected by our action.

Description of Projected Reporting, Recordkeeping, and Other Compliance Requirements

This NPRM seeks comment on a proposal regarding possible certification of TRS providers seeking to provide interstate TRS. The proposed certification process would mirror an existing certification process established for certification of state TRS programs. The proposed certification process for interstate TRS providers, if implemented, would impose a new requirement to file information with the Federal Communications Commission.

Steps Taken To Minimize the Significant Economic Impact on Small Entities, and Significant Alternatives Considered

The RFA requires an agency to describe any significant alternatives that it has considered in reaching its proposed approach, which may include the following four alternatives: (1) The establishment of differing compliance or reporting requirements or timetables that take (among others) into account the resources available to small entities; (2) the clarification, consolidation, or simplification of compliance or reporting requirements under the rule for small entities; (3) the use of performance, rather than design, standards; and (4) an exemption from coverage of the rule, or any part thereof, for such small entities. 5 U.S.C. 603.

The proposals in the NPRM, and the comments the Commission seeks regarding them, are part of the Commission's role with respect to the implementation and operation of nationwide TRS for persons with hearing and speech disabilities. See, e.g., 47 U.S.C. 225. The guiding principle shaping these proposals is Congress' direction to the Commission to ensure that TRS keeps pace with advancing technology, that the Commission's rules do not discourage the implementation of technological advances or improvements, and that TRS provides functionally equivalent telecommunications services for persons with hearing and speech disabilities. The majority of TRS service is provided by large interexchange carriers and incumbent local exchange carriers, and we believe that the number of small entities impacted by these proposals would be potentially very small. With respect to proposed amendments to the Commission's rules governing TRS, by statute common carriers (including small entities) providing voice transmission services that are subject to the TRS rules may comply with their obligations individually, through designees, through competitively selected vendors, or in concert with other carriers. 47 U.S.C. 225 (c). For this reason, the Commission expects that the proposed rule amendments will have a minimal impact on small entities. We seek comment on our tentative conclusion.

Federal Rules That May Duplicate, Overlap, or Conflict With the Proposed Rules

None.

Ordering Clauses

It is further ordered that, pursuant to the authority contained in sections 1, 2, 4 (i), 4 (j), 225, 303 (r), and 403 of the Communications Act of 1934, as amended, 47 U.S.C 151, 154 (i), 154 (j), 225, 303 (r), and 403, the notice of proposed rulemaking is adopted.

It is further ordered that the Commission's Consumer & Governmental Affairs Bureau, Reference Information Center, shall send a copy of this notice of proposed rulemaking, including the Initial Regulatory Flexibility Analysis, to the Chief Counsel for Advocacy of the Small Business Administration.

List of Subjects in 47 CFR Part 64

Individuals with disabilities, Reporting and recordkeeping requirements, Telecommunications.

Federal Communications Commission.
Marlene H. Dortch,
Secretary.

Proposed Rules

For the reasons discussed in the preamble, the Federal Communications Commission proposes to amend 47 CFR part 64 as follows:

1. The authority citation for part 64 continues to read as follows:

Authority: 47 U.S.C. 154, 254(k); sections 403 (b)(2)(B), (c), Public Law 104-104, 110 Stat. 56. Interpret or apply 47 U.S.C. 201, 218, 225, 226, 228, and 254(k) unless otherwise noted.

2. Amend § 64.604 by adding paragraph (c)(5)(iii)(F)(4) to read as follows:

§ 64.604 Mandatory minimum standards.

* * * * *

(c) * * *

(5) * * *

(iii) * * *

(F) * * *

(4) Interstate TRS providers certified by the Commission pursuant to § 64.605.

* * * * *

3. Revise § 64.605 to read as follows:

§ 64.605 State TRS Program Certification and Interstate TRS Providers.

(a) Documentation. (1) State TRS programs. Any state, through its office of the governor or other delegated executive office empowered to provide TRS, desiring to establish a state program under this section shall submit, not later than October 1, 1992, documentation to the Commission addressed to the Federal Communications Commission, Chief, Consumer & Governmental Affairs Bureau, State TRS Certification Program, Washington, DC 20554, and captioned “TRS State Certification Application.” All documentation shall be submitted in narrative form, shall clearly describe the state program for implementing intrastate TRS, and the procedures and remedies for enforcing and requirements imposed by the state program. The Commission shall give public notice of state filing for certification including notification in the Federal Register.

(2) Interstate TRS providers. Any TRS provider desiring to provide TRS on an interstate basis, independent from any state TRS program or any interstate common carrier, and desiring to establish eligibility to provide TRS and receive compensation for providing those services from the Interstate TRS Fund, shall submit documentation to the Commission addressed to the Federal Communications Commission, Chief, Consumer & Governmental Affairs Bureau, Interstate TRS Provider Certification Program, Washington, DC 20554, and captioned “Interstate TRS Provider Certification Application.” All documentation shall be submitted in narrative form, and shall clearly describe the forms of TRS to be provided (i.e., VRS, STS, IP Relay, traditional text-to-speech TRS) and any waivers of mandatory minimum standards deemed necessary to provide the aforementioned forms of TRS. The Commission shall give public notice of each interstate TRS provider filing for certification including notification in the Federal Register.

(b) Requirements for certification. (1) State TRS programs. After review of certification documentation, the Commission shall certify, by letter, or order, the state program or interstate TRS provider if the Commission determines that the documentation:

(i) Establishes that the statea program meets or exceeds all operational, technical, and functional minimum standards contained in § 64.604;

(ii) Establishes that the state program makes available adequate procedures and remedies for enforcing the requirements of the state program, including that it makes available to TRS users informational materials on state and Commission complaint procedures sufficient for users to know the proper procedures for filing complaints; and;

(iii) Where a state program exceeds the mandatory minimum standards contained in § 64.604, the state establishes that its program in no way conflicts with federal law.

(2) Interstate TRS providers. After review of certification documentation, the Commission shall certify, by letter, or order, the interstate TRS provider if the Commission determines that the certification documentation:

(i) Establishes that the interstate TRS provider meets or exceeds all operational, technical, and functional minimum standards contained in § 64.604;

(ii) Establishes that the interstate TRS provider makes available adequate procedures and remedies for ensuring compliance with the requirements of this section and the mandatory minimum standards contained in § 64.604, including the requirement that informational materials on complaint procedures sufficient for users to know the proper procedures for filing complaints are made available to TRS users; and

(iii) Where the interstate TRS provider exceeds the mandatory minimum standards contained in § 64.604, the interstate TRS provider establishes that its program and services in no way conflict with federal law.

(c) Certification period. (1) State TRS programs. State certification shall remain in effect for five years. One year prior to expiration of certification, a state may apply for renewal of its certification by filing documentation as prescribed by paragraphs (a) and (b) of this section.

(2) Interstate TRS providers. Certification granted under this section shall remain in effect for one year. Providers shall file with the Commission, on an annual basis, a report providing evidence that they are in compliance with § 64.604. Interstate TRS providers shall also file a log of any complaints received, and their disposition of such complaints. An interstate TRS provider may apply for renewal of its certification by filing documentation to the Commission addressed to the Federal Communications Commission, Chief, Disability Rights Office, Consumer & Governmental Affairs Bureau, Washington, DC 20554, and captioned “Interstate TRS Provider Re-Certification Application,” as prescribed by paragraphs (a) and (b) of this section.

(d) Method of funding. Except as provided in § 64.604, the Commission shall not refuse to certify a state program based solely on the method such state will implement for funding intrastate TRS, but funding mechanisms, if labeled, shall be labeled in manner that promote national understanding of TRS and do not offend the public.

(e) Suspension or revocation of certification. (1) State TRS programs.

(i) The Commission may suspend or revoke such certification if, after notice of opportunity for hearing, the Commission determines that such certification is no longer warranted. In a state whose program has been suspended or revoked, the Commission shall take such steps as may be necessary, consistent with this subpart, to ensure continuity of TRS.

(ii) The Commission may, on its own motion, require a certified state program to submit documentation demonstrating ongoing compliance with the Commission's minimum standards if, for example, the Commission received evidence that a state program may not be in compliance with the minimum standards.

(2) Interstate TRS providers. (i) The Commission may suspend or revoke certification of an interstate TRS provider if, after notice of opportunity for hearing, the Commission determines that such certification is no longer warranted. If such certification has been suspended or revoked, the Commission shall take such steps as may be necessary, consistent with this subpart, to ensure continuity of TRS.

(ii) The Commission may, on its own motion, require a certified interstate TRS provider to submit documentation demonstrating ongoing compliance with the Commission's minimum standards if, for example, the Commission receives evidence that a certified interstate TRS provider may not be in compliance with the minimum standards.

(f) Notification of substantive change. (1) State TRS Programs. States must notify the Commission of substantive changes in their TRS programs within 60 days of when they occur, and must certify that the state TRS program continues to meet federal minimum standards after implementing the substantive change.

(2) Interstate TRS providers. Interstate TRS providers must notify the Commission of substantive changes in their TRS programs, services and features within 60 days of when such changes may occur, and must certify that the interstate TRS provider continues to meet federal minimum standards after implementing the substantive change.

[FR Doc. 03-21616 Filed 8-22-03; 8:45 am]

BILLING CODE 6712-01-P